DEPARTMENT OF THE INTERIOR

National Park Service

[NPS-WASO-NAGPRA-16118; PPWOCRADN0-PCU00RP14.R50000]

Notice of Inventory Completion: U.S. Department of Agriculture, Forest Service, Tonto National Forest, Phoenix, AZ, and San Diego Museum of Man, San Diego, CA

AGENCY: National Park Service, Interior.

ACTION: Notice.

SUMMARY: The U.S. Department of Agriculture (USDA), Forest Service, Tonto National Forest and the San Diego Museum of Man have completed an inventory of human remains and associated funerary objects, in consultation with the appropriate Indian tribes or Native Hawaiian organizations, and have determined that there is a cultural affiliation between the human remains and associated funerary objects and present-day Indian tribes or Native Hawaiian organizations. Lineal descendants or representatives of any Indian tribe or Native Hawaiian organization not identified in this notice that wish to request transfer of control of these human remains and associated funerary objects should submit a written request to the Tonto National Forest. If no additional requestors come forward, transfer of control of the human remains and associated funerary objects to the lineal descendants, Indian tribes, or Native Hawaiian organizations stated in this notice may proceed.

DATES: Lineal descendants or representatives of any Indian tribe or Native Hawaiian organization not identified in this notice that wish to request transfer of control of these human remains and associated funerary objects should submit a written request with information in support of the request to the Tonto National Forest at the address in this notice by August 28, 2014.

ADDRESSES: Scott Wood, Heritage Program Manager, Tonto National Forest, 2324 E. McDowell Road, Phoenix, AZ 85006, telephone (602) 225-5231, email swood01@fs.fed.us.

SUPPLEMENTARY INFORMATION: Notice is here given in accordance with the Native American Graves Protection and Repatriation Act (NAGPRA), 25 U.S.C. 3003, of the completion of an inventory of human remains and associated funerary objects under the control of the USDA Forest Service, Tonto National Forest and in the physical custody of the San Diego Museum of Man. The human remains and associated funerary objects were removed from the Tonto National Forest prior to 1972.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the San Diego Museum of Man professional staff (as the agent of the USDA Tonto National Forest) in consultation with representatives of the Ak Chin Indian Community of the Maricopa (Ak Chin) Indian Reservation, Arizona; Gila River Indian Community of the Gila River Indian Reservation, Arizona; Hopi Tribe of Arizona; Salt River Pima-Maricopa Indian Community of the Salt River Reservation, Arizona; Tohono O'odham Nation of Arizona; and the Zuni Tribe of the Zuni Reservation, New Mexico.

History and Description of the Remains

Sometime prior to 1972, the cremated skeletal remains of at least one individual were discovered in a cremation pot at an archeological site in the Tonto Basin, AZ, on land under the jurisdiction of the Tonto National Forest. The human remains and the associated funerary object were collected by Mr. Thomas W. Sefton, and donated to the San Diego Museum of Man on December 8, 2003. No known individuals were identified. The associated funerary object is a cremation pot.

According to the Museum of Man records, the human remains and associated funerary object are believed to date to approximately 1100 A.D. The cremated bones appear to have been placed in the pot after the cremation, and then both the bones and pot were re-fired. Much of the design of the pot was lost during this process.

The human remains and the pot containing them have been determined by the Tonto National Forest to belong to the Hohokam archeological culture. The USDA Forest Service has determined that the cultural affiliation of cultural items associated with or reasonably related to the Hohokam, Salado, or Payson archeological traditions as they are identified on the Tonto National Forest lies with the modern O'odham people, represented by the Four Southern Tribes of Arizona: The Ak Chin Indian Community of the Maricopa (Ak Chin) Indian Reservation, Arizona; Gila River Indian Community of the Gila River Indian Reservation, Arizona (GRIC); Salt River Pima-Maricopa Indian Community of the Salt River Reservation, Arizona (SRPMIC); and the Tohono O'odham Nation of Arizona. The USDA Forest Service also recognizes a cultural affiliation with the Hopi Tribe of Arizona and the Zuni Tribe of the Zuni Reservation, New Mexico.

Determinations Made by the Tonto National Forest and the San Diego Museum of Man

Officials of the Tonto National Forest and the San Diego Museum of Man have determined that:

• Pursuant to 25 U.S.C. 3001(9), the human remains described in this notice represent the physical remains of one individual of Native American ancestry associated with the Hohokam archeological culture.

• Pursuant to 25 U.S.C. 3001(3)(A), the one object described in this notice is reasonably believed to have been placed with or near individual human remains at the time of death or later as part of the death rite or ceremony.

• Pursuant to 25 U.S.C. 3001(2), there is a relationship of shared group identity that can be reasonably traced between the Native American human remains and the Ak Chin Indian Community of the Maricopa (Ak Chin) Indian Reservation, Arizona; Gila River Indian Community of the Gila River Indian Reservation, Arizona; Hopi Tribe of Arizona; Salt River Pima-Maricopa Indian Community of the Salt River Reservation, Arizona; Tohono O'odham Nation of Arizona; and Zuni Tribe of the Zuni Reservation, New Mexico.

Additional Requestors and Disposition

Lineal descendants or representatives of any Indian tribe or Native Hawaiian organization not identified in this notice that wish to request transfer of control of these human remains and associated funerary objects should submit a written request with information in support of the request to Scott Wood, Heritage program Manager, Tonto National Forest, 2324 E. McDowell Road, Phoenix, AZ 85006, telephone (602) 225-5231, email swood01@fs.fed.us, by August 28, 2014. After that date, if no additional requestors have come forward, transfer of control of the human remains and associated funerary objects to the Ak Chin Indian Community of the Maricopa (Ak Chin) Indian Reservation, Arizona; Gila River Indian Community of the Gila River Indian Reservation, Arizona; Hopi Tribe of Arizona; Salt River Pima-Maricopa Indian Community of the Salt River Reservation, Arizona; Tohono O'odham Nation of Arizona; and Zuni Tribe of the Zuni Reservation, New Mexico, may proceed.

The USDA Tonto National Forest is responsible for notifying the Ak Chin Indian Community of the Maricopa (Ak Chin) Indian Reservation, Arizona; Gila River Indian Community of the Gila River Indian Reservation, Arizona; Hopi Tribe of Arizona; Salt River Pima-Maricopa Indian Community of the Salt River Reservation, Arizona; Tohono O'odham Nation of Arizona; and Zuni Tribe of the Zuni Reservation, New Mexico, that this notice has been published.

Dated: June 26, 2014.
David Tarler,
Acting Manager, National NAGPRA Program.

[FR Doc. 2014-17745 Filed 7-28-14; 8:45 am]

BILLING CODE 4312-50-P